ENVIRONMENTAL PROTECTION AGENCY

[OPP-2005-0102; FRL-7717-7]

FIFRA Scientific Advisory Panel; Notice of Cancellation of Public Meeting

AGENCY: Environmental Protection Agency (EPA).

ACTION: Notice.

SUMMARY: The June 14 - 15, 2005, Federal Insecticide, Fungicide, and Rodenticide Act Scientific Advisory Panel (FIFRA SAP) meeting to consider and review issues related to the carbamate dietary exposure assessment incorporating cholinesterase recovery into CARES-compatible modules has been cancelled. For further information, please notify the Designated Federal Official (DFO) listed under FOR FURTHER INFORMATION CONTACT or see the Federal Register of April 27, 2005 (70 FR 21746) (FRL-7710-7).

FOR FURTHER INFORMATION CONTACT: Joseph E. Bailey, Designated Federal Official, Office of Science Coordination and Policy (7201M), Environmental Protection Agency, 1200 Pennsylvania Ave., NW., Washington, DC 20460; telephone number: (202) 564-2045; fax number: (202) 564-8382; e-mail address: bailey.joseph@epa.gov.

List of Subjects

Environmental protection, Pesticides and pests.

Dated: May 23, 2005.
Clifford Gabriel,
Director, Office of Science Coordination and Policy.

[FR Doc. 05-10678 Filed 5-26-05; 8:45 am]

BILLING CODE 6560-50-S